DEPARTMENT OF DEFENSE

GENERAL SERVICES ADMINISTRATION

NATIONAL AERONAUTICS AND SPACE ADMINISTRATION

[OMB Control No. 9000-00XX: Docket 2014-0055; Sequence 26]

Federal Acquisition Regulation; Submission for OMB Review; Combating Trafficking in Persons

AGENCY: Department of Defense (DOD), General Services Administration (GSA), and National Aeronautics and Space Administration (NASA).

ACTION: Notice of request for public comments regarding a new OMB information collection.

SUMMARY: Under the provisions of the Paperwork Reduction Act (44 U.S.C. chapter 35), the Regulatory Secretariat Division (MVCB) will be submitting to the Office of Management and Budget (OMB) a request to review and approve a new information collection requirement regarding Combating Trafficking in Persons. A notice was published in the Federal Register at 78 FR 59317 on September 26, 2013. Three comments were received.

DATES: Submit comments on or before September 19, 2014.

ADDRESSES: Submit comments identified by Information Collection 9000-00XX, Combating Trafficking in Persons by any of the following methods:

• Regulations.gov: http://www.regulations.gov. Submit comments via the Federal eRulemaking portal by searching the OMB control number 9000-00XX. Select the link “Comment Now” that corresponds with “Information Collection 9000-00XX, Combating Trafficking in Persons. Follow the instructions provided on the screen. Please include your name, company name (if any), and “Information Collection 9000-00XX, Combating Trafficking in Persons, on your attached document.

• Fax: 202-501-4067.

• Mail: General Services Administration, Regulatory Secretariat Division (MVCB), 1800 F Street NW., Washington, DC 20405. ATTN: Ms. Flowers/IC 9000-00XX, Combating Trafficking in Persons.

Instructions: Please submit comments only and cite Information Collection 9000-00XX, Combating Trafficking in Persons, in all correspondence related to this collection. All comments received will be posted without change to http://www.regulations.gov, including any personal and/or business confidential information provided.

FOR FURTHER INFORMATION CONTACT: Ms. Marissa Petrusek, Procurement Analyst, Acquistion Policy Division, via telephone 202-510-3069 or via email marissa.petrusek@gsa.gov.

SUPPLEMENTARY INFORMATION:

A. Purpose

Executive Order (E.O.) 13627, entitled Strengthening Protections Against Trafficking in Persons in Federal Contracts, dated September 25, 2012 (77 FR 60029, October 2, 2012) and Title XVII of the National Defense Authorization Act for Fiscal Year 2013 (Pub. L. 112-239, enacted January 2, 2013) strengthen the long standing zero-tolerance policy of the United States regarding Government employees and contractor personnel engaging in any form of trafficking in persons.

Additional protections are required where the estimated value of the supplies (other than commercially available off-the-shelf (COTS) items) to be acquired outside the United States, or the services to be performed, outside the United States has an estimated value that exceeds $500,000. These protections include the following: (a) The contractor is required to implement and maintain a compliance plan during the performance of the contract that includes an awareness program, a process for employees to report activity inconsistent with the zero-tolerance policy, a recruitment and wage plan, a housing plan, and procedures to prevent subcontractors from engaging in trafficking in persons; and (b) The contractor is required to submit a certification to the contracting officer prior to receiving an award, and annually thereafter, asserting that it has the required compliance plan in place and that there have been no abuses, or that appropriate actions have been taken if abuses have been found. The compliance plan must be provided to the contracting officer upon request, and relevant portions of it must be posted at the workplace and on the contractor's Web site. Additionally, contractors are required to flow these requirements down to any subcontracts where the estimated value of the supplies acquired or the services required to be performed outside the United States exceeds $500,000.

B. Analysis of Public Comments

Three respondents submitted public comments on the new information collection. The analysis of the public comments is summarized as follows:

Comment: Several respondents commented that the four hour estimate per contract to prepare and submit an annual certification underestimates the burden because it does not take into consideration the time required to monitor, detect and terminate any agent subcontractors or subcontractor employees who have engaged in trafficking in persons at all tiers.

Response. The Councils performed a detailed analysis and believe that the certification process should require minimal additional attention if a company is taking the time required to maintain a sound compliance plan. Therefore, the Councils have not increased the estimated number of burden hours.

Comment. One respondent commented that the 24 hour estimate to prepare the compliance plan underestimates the burden.

Response. The Councils performed detailed analysis taking into account many factors. The estimated burden associated with writing the compliance plan takes into consideration that this is one-time, to be updated, as necessary, to align with the size, scope and complexity of later procurements. The Councils have not increased the estimate.

C. Annual Reporting Burden

Respondents: 120.

Responses per Respondent: 1.

Total Responses: 120.

Hours per Response: 1.

Total Burden Hours: 120.

Obtaining Copies of Proposals: Requesters may obtain a copy of the information collection documents from the General Services Administration, Regulatory Secretariat Division (MVCB), 1800 F Street NW., Washington, DC 20405, telephone 202-501-4755. Please cite OMB Control No. 9000-00XX, in all correspondence.

Dated: August 15, 2014.
Karlos Morgan,
Acting Director, Office of Government-Wide Acquisition Policy, Office of Acquisition Policy, Office of Government-Wide Policy.

[FR Doc. 2014-19812 Filed 8-19-14; 8:45 am]

BILLING CODE P